FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 011707-020.

Agreement Name: Gulf/South America Discussion Agreement.

Parties: BBC Chartering Carriers GmbH & Co. KG and BBC Chartering Logistics GmbH & Co. KG (acting as a single party); Industrial Maritime Carriers, LLC and Intermarine Carriers LLC (acting as a single party); Seaboard Marine Ltd.

Filing Party: Wayne Rohde; Cozen O'Connor.

Synopsis: The amendment adds Intermarine Carriers, LLC as a party to the Agreement and reflects the upcoming resignation of Seaboard Marine Ltd. from the Agreement.

Proposed Effective Date: 05/19/2024.

Location: https://www2.fmc.gov/FMC.Agreements.Web/Public/AgreementHistory/684.

Dated: April 5, 2024.
David Eng,
Secretary.

[FR Doc. 2024-07677 Filed 4-10-24; 8:45 am]

BILLING CODE 6730-02-P